DEPARTMENT OF THE INTERIOR

Bureau of Land Management

[LLNVE00000 L19900000.EX0000 241A; 10-08807; MO#4500012653; TAS: 14X1109]

Notice of Availability of Final Supplemental Environmental Impact Statement Updating Cumulative Effects Analysis for the Newmont Mining Corporation Leeville Project, Nevada

AGENCY: Bureau of Land Management, Interior.

ACTION: Notice of Availability.

SUMMARY: In accordance with the National Environmental Policy Act of 1969, as amended, and the Federal Land Policy and Management Act of 1976, as amended, the Bureau of Land Management (BLM), Elko District Office prepared a Final Supplemental Environmental Impact Statement (EIS) to update the cumulative effects analysis for Newmont Mining Corporation's Leeville Project gold mine in Eureka and Elko counties, Nevada, and by this notice is announcing its availability. The project was authorized in 2002.

DATES: The BLM will not issue a final decision on the proposal for a minimum of 30 days after the date that the Environmental Protection Agency publishes its notice in the Federal Register.

ADDRESSES: Copies of the Final Supplemental EIS are available for inspection at the BLM, Elko District Office, 3900 Idaho Street, Elko, Nevada 89801. Interested persons may also review the Final Supplemental EIS on the following Elko District Office Web site: http://www.blm.gov/nv/st/en/fo/elko_field_office.html.

FOR FURTHER INFORMATION CONTACT: For further information contact Deb McFarlane, (775) 753-0200, or e-mail: Deb_McFarlene@blm.gov.

SUPPLEMENTARY INFORMATION: The BLM signed a Record of Decision (ROD) for Newmont Mining Corporation's Leeville Project, an underground gold mine located on the Carlin Trend in northeastern Nevada, on September 25, 2002. Four years of legal review resulted in the United States Court of Appeals for the Ninth Circuit partially reversing the ROD. The Final Supplemental EIS updates analysis of some cumulative impacts including potential impacts to air quality, minerals, Native American and cultural resources, water, vegetation, grazing, recreation, noise, visual resources, wilderness resources, threatened and endangered species, and socioeconomics.

The Leeville Project includes three main ore bodies located approximately 2,500 feet below ground's surface. Newmont Mining Corporation is authorized to construct ancillary mine facilities, including construction of five shafts to access the ore bodies, shaft hoists, a waste rock disposal facility, refractory ore stockpiles, facilities to support mine dewatering, and facilities to support backfill operations. Surface disturbance totals 486 acres.

A Notice of Intent to Prepare a Supplemental EIS Updating Cumulative Effects Analysis for the Newmont Mining Corporation Leeville Project, Nevada, was published in the Federal Register on March 7, 2007 [72 FR 10241]. The Notice of Availability for the Draft Supplemental EIS for the Leeville Project was published in the Federal Register on September 6, 2007 [72 FR 51248].

Authority: 40 CFR 1506.6 and 1506.10.

Kenneth E. Miller,
Elko District Manager.

[FR Doc. 2010-16033 Filed 7-1-10; 8:45 am]

BILLING CODE 4310-HC-P